DEPARTMENT OF AGRICULTURE

Submission for OMB Review; Comment Request

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by August 13, 2025 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Farm Service Agency

Title: Measurement Service Record.

OMB Control Number: 0560-0260.

Summary of Collection: The information collection is authorized by 7 CFR part 718 and described in FSA Handbook 2-CP. If a producer requests measurement services, it becomes necessary for the producer to provide certain information which is collected on an FSA-409 or 409 A. The information is necessary to fulfill the producer's request for measurement services. Producers may request acreage or production measurement services.

Need and Use of the Information: The Farm Service Agency (FSA) will collect the following information that the producer is required to provide on FSA-409 and FSA-409 A: farm serial number, program year, farm location, contact person, and type of service request (acreage or production). The collected information is used to create a record of measurement service requests and cost to the producer.

Description of Respondents: Farms.

Number of Respondents: 135,000.

Frequency of Responses: Reporting: On occasion; Weekly; Monthly.

Total Burden Hours: 33,750.

Rachelle Ragland-Greene,
Departmental Information Collection Clearance Officer.

[FR Doc. 2025-13140 Filed 7-11-25; 8:45 am]

BILLING CODE 3410-18-P